NATIONAL FOUNDATION ON THE ARTS AND THE HUMANITIES

National Endowment for the Arts; Combined Arts Advisory Panel

Pursuant to section 10(a)(2) of the Federal Advisory Committee Act (Pub. L. 92-463), as amended, notice is hereby given that six meetings of the Combined Arts Advisory Panel to the National Council on the Arts will be held at the Nancy Hanks Center, 1100 Pennsylvania Avenue, NW., Washington, DC 20506 as follows:

Music: November 17-18, 2003, Room 714 (Heritage and Preservation category, Panel A). This meeting will be closed.

Music: November 18, 2003, Room 714 (Challenge America-Access category, Panel A). A portion of this meeting, from 3:30 p.m. to 4:30 p.m., will be open to the public for policy discussion. The remaining portions of this meeting, from 10:30 a.m. to 3:30 p.m. and from 4:30 p.m. to 5 p.m., will be closed.

Folk & Traditional Arts: November 18-21, 2003, Room 716 (Challenge America-Access and Heritage and Preservation categories). A portion of this meeting, from 11 a.m. to 12:30 p.m. on November 21st, will be open to the public for policy discussion. The remaining portions of this meeting, from 9 a.m. to 6:30 p.m. on November 18th-20th, and from 9 a.m. to 11 a.m. and 12:30 p.m. to 4:30 p.m. on November 21st, will be closed.

Music: November 19-21, 2003, Room 714 (Challenge America-Access category, Panel B). This meeting will be closed.

Music: November 21, 2003, Room 714 (Heritage and Preservation category, Panel B). A portion of this meeting, from 4 p.m. to 5 p.m., will be open to the public for policy discussion. The remaining portions of this meeting, from 2:30 p.m. to 4 p.m. and from 5 p.m. to 5:30 p.m., will be closed.

Museums: December 2-4, 2003, Room 716 (Challenge America-Access and Heritage and Preservation categories). This meeting will be closed.

The closed meetings and portions of meetings are for the purpose of Panel review, discussion, evaluation, and recommendation on applications for financial assistance under the National Foundation on the Arts and the Humanities Act of 1965, as amended, including information given in confidence to the agency by grant applicants. In accordance with the determination of the Chairman of April 30, 2003, these sessions will be closed to the public pursuant to subsection (c) (6) of 5 U.S.C. 552b.

Any person may observe meetings, or portions thereof, of advisory panels that are open to the public, and, if time allows, may be permitted to participate in the panel's discussions at the discretion of the panel chairman and with the approval of the full-time Federal employee in attendance.

If you need special accommodations due to a disability, please contact the Office of AccessAbility, National Endowment for the Arts, 1100 Pennsylvania Avenue, NW., Washington, DC 20506, 202/682-5532, TDY-TDD 202/682-5496, at least seven (7) days prior to the meeting.

Further information with reference to this meeting can be obtained from Ms. Kathy Plowitz-Worden, Office of Guidelines & Panel Operations, National Endowment for the Arts, Washington, DC 20506, or call 202/682-5691.

Dated: October 24, 2003.
Kathy Plowitz-Worden,
Panel Coordinator, Panel Operations, National Endowment for the Arts.

[FR Doc. 03-27301 Filed 10-29-03; 8:45 am]

BILLING CODE 7537-01-P